DEPARTMENT OF HEALTH AND HUMAN SERVICES

Centers for Disease Control and Prevention

[60Day-02-27]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project

Process Evaluation of CDC's Youth Media Campaign—NEW—National Center For Chronic Disease Prevention and Health Promotion (NCCDPHP), Centers for Disease Control and Prevention (CDC)

In FY 2001, Congress established the Youth Media Campaign at the Centers for Disease Control and Prevention (CDC). Specifically, the House Appropriations Language said: The Committee believes that, if we are to have a positive impact on the future health of the American population, we must change the behaviors of our children and young adults by reaching them with important health messages. CDC, working in collaboration with the Health Resources and Services Administration (HRSA), the National Center for Child Health and Human Development (NICHD), and the Substance Abuse and Mental Health Services Administration (SAMHSA), is coordinating an effort to plan, implement, and evaluate a campaign designed to clearly communicate messages that will help kids develop habits that foster good health over a lifetime. The Campaign will be based on principles that have been shown to enhance success, including: designing messages based on research; testing messages with the intended audiences; involving young people in all aspects of Campaign planning and implementation; enlisting the involvement and support of parents and other influencers; tracking the Campaign's effectiveness and revising Campaign messages and strategies as needed.

For the Campaign to be successful, close monitoring of the implementation of the Campaign through process evaluation is essential. Campaign planners are interested in understanding how well and under what conditions the Campaign was implemented and the size of the audience that was exposed to the messages. This understanding will facilitate any strategy changes that may be necessary to increase the Campaign's effectiveness and sustainability.

The Youth Media Campaign will conduct process evaluation with convenience samples during community events in up to 15 communities nationwide, as well as through the Campaign Web site and listservs. This process evaluation may include, but is not limited to, gathering information from tweens, parents, other teen and adult influencers, community stakeholders, and partners through: in-person and follow-up telephone interviews; intercept interviews; panels or reoccurring focus groups; internet online surveys; and bounce-back Web surveys with users of Web site. Additionally, the Youth Media Campaign process evaluation will examine the implementation of Campaign strategies through community partners. Partner process evaluation methods include, but are not limited to, partner reporting logs, a partner listserv reporting system, partner surveys, and partner interviews.

The purpose of the process research is to determine to what extent the Youth Media Campaign was implemented as planned, the challenges that occurred and how they were addressed, in order to refine campaign strategies. Additionally, the process research will examine to what extent partnerships were formed and the effectiveness of the partnership activities.

Respondents | Number of respondents | Number of responses/ respondent | Average burden of response (in hours) | Total burden (in hours)
Tweens (ages 9-13) | 20,000 | 1 | 15/60 | 5,000
Reoccurring tween panel(s) | 30 | 4 | 2 | 240
Parents | 10,000 | 1 | 15/60 | 2,500
Reoccurring parent panel(s) | 30 | 4 | 2 | 240
Adult influencers | 7,500 | 1 | 15/60 | 1,875
Older teen influencers | 4,000 | 1 | 15/60 | 1,000
Community stakeholders | 2,000 | 1 | 30/60 | 1,000
Reoccurring community stakeholder panel(s) | 40 | 2 | 2 | 160
Partners/alliances | 2,000 | 6 | 30/60 | 6,000
Total |  |  |  | 18,015

Dated: February 8, 2002.
Julie Fishman,
Acting Deputy Director for Policy, Planning and Evaluation, Centers for Disease Control and Prevention.

[FR Doc. 02-3730 Filed 2-14-02; 8:45 am]

BILLING CODE 4163-18-P